DEPARTMENT OF STATE

[Public Notice 3715]

Bureau of Educational and Cultural Affairs Request for Grant Proposals: U.S.-China Youth Exchange Initiative

SUMMARY: The Youth Programs Division, Office of Citizen Exchanges, of the Bureau of Educational and Cultural Affairs announces an open competition for the U.S.-China Youth Exchange Initiative. Public and private non-profit organizations meeting the provisions described in IRS regulation 26 CFR 1.501(c) may submit proposals to support institutional partnerships and to administer a reciprocal youth exchange between secondary schools in the United States and in China. This program will develop linkages between schools and communities in the U.S. and China for the purpose of mutual education and the development of student participation in community affairs. The Bureau expects to award one grant, not to exceed $475,000, to support exchanges for seven school partnerships and technology assistance for 25 partnerships.

Program Information

Overview

The focus of this youth exchange program is to support the partnership of schools and communities in China with schools and communities in the United States and to foster interaction and lasting relationships between these partnered schools through reciprocal student and educator exchanges with strong academic content and through Internet connections. This initiative, begun in December 2000 as a pilot project, will support student participation in community affairs and will advance mutual understanding between the youth and teachers of the U.S. and China.

The long-term goals of the principal program are to: (1) Develop lasting, sustainable institutional ties between U.S. and Chinese schools and communities; (2) support student involvement in community affairs; (3) advance mutual understanding between the youth and teachers of the U.S. and China; and (4) promote partnerships developed through governmental, educational, and not-for-profit sector cooperation that serve the needs and interests of the schools and communities.

The program has several defining features to help the participating schools develop their partnership:

• Each partnership has a project theme and the students and teachers in the two schools work on a joint project throughout the school year related to this theme.

• The two schools develop a relationship over the course of an academic year, through the planning process and the work on their joint project, which is highlighted by exchanges of three to five weeks in duration. Exchanges take place while the host school is in session.

• The student and teacher exchanges must be reciprocal.

• The program includes educators (teachers and/or administrators) in order to involve them in all aspects of the partnership and to provide them access to resources for curriculum development and educational training.

In 2000, the Bureau of Educational and Cultural Affairs (ECA) provided a grant for a pilot project with two components: The recruitment and selection of schools and the implementation of a pilot partnership with a reciprocal exchange and joint project activity. Through this pilot project, an open recruitment process is underway in both the United States and China for applications from school and community representatives. Based on these applications, the grantee organization for this pilot project, in consultation with ECA, will select the top 25 applicants in each country, match the schools (unless they apply as partners), and rank order these selected schools. This list of selected schools will be available to all applicants in August.

Since ECA and the U.S. Mission in China plan to expand this program incrementally over the next few years, the funding under this assistance award is expected to support seven partnerships, i.e., exchanges of about 75-80 students and teachers from each country. The grant is subject to renewal for the program's expansion, depending on the availability of funding and the grantee organization's performance.

Partnerships will focus on a theme relevant to their communities; students will work together to complete a joint project related to that theme. Support for Internet connectivity and computer training is also an important component of the program so that the paired schools can communicate throughout the school year and work on these joint projects. The three- to five-week exchange visits to the partner community will involve studying at the host school, working on the thematic project, participating in cultural activities, and spending time with host families. An enhancement program will be provided for the Chinese participants.

The recipient of this grant will be responsible for the oversight and coordination of all programmatic and logistical aspects, including coordination with partnering organizations, local committees, and school representatives; oversight of open, merit-based participant selection processes and of the orientations, facilitation of the academic content of the partnership activities, and management of the enhancement program.

Guidelines

Dates: The grant will begin on or about November 15, 2001. Facilitation of communication between the partnered schools should begin immediately. The exchanges may take place in Spring 2002 and/or Fall 2002.

As is the case with all Bureau exchange programs, actual funding for future activities is contingent upon the Congressional Appropriation and Authorization Process and final availability of funds. Upon successful implementation of this portion of the program and pending the availability of funds, ECA reserves the right to amend the grant to support future program activities.

Because future funding and other factors will limit the growth of this program, the rank-ordered list of the schools will be used as a guide in approaching schools for participation in subsequent years. ECA expects to work up to the participation of as many as 50 schools over the course of the initiative.

Eligible applicant organizations will have the following:

• Experience working in China

• A demonstrated track record of conducting youth exchange

• Experience with managing international institutional linkages and/or experience developing the program content for short-term exchanges

• An established partnership with an educational organization based in China or its own branch office there.

Programs must comply with J-1 visa regulations. Please refer to Solicitation Package for further information.

Important Note: The complete solicitation package includes a copy of the application form that schools/local committees are using to apply for participation in the program through the pilot project currently underway. Having this form will enhance the ability of organizations to respond to this solicitation. Please contact the Youth Programs Division as soon as possible to have a copy of this application form sent to you and to provide contact information. By providing complete organizational information and the name of a point of contact, we will be able to send you the list of selected schools once it is available. We expect to be able to provide this to applicants no later than August 20, 2001.

Budget Guidelines

The Bureau expects to provide an assistance award in an amount not to exceed $475,000 to one organization to support the program and administrative costs required to implement this program. Organizations with less than four years of experience in conducting international exchange programs are not eligible for this competition.

Applicants must submit a comprehensive budget for the entire program. There must be a summary budget as well as breakdowns reflecting both administrative and program budgets. Applicants may provide separate sub-budgets for each program component, phase, location, or activity to provide clarification. The Bureau encourages applicants to provide maximum levels of cost-sharing and funding from private sources in support of its programs.

Please refer to the Solicitation Package for complete budget guidelines and formatting instructions.

Announcement Title and Number

All correspondence with the Bureau concerning this RFGP should reference the above title and number ECA/PE/C/PY-01-85.

FOR FURTHER INFORMATION CONTACT: The Youth Programs Division, ECA/PE/C/PY, Room 568, U.S. Department of State, 301 4th Street, SW., Washington, DC 20547, telephone (202) 619-6299; fax (202) 619-5311; e-mail address: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs. Please read all information before downloading.

Deadline for Proposals

All proposal copies must be received at the Bureau of Educational and Cultural Affairs by 5 p.m., Washington, DC time, on Friday, September 7, 2001. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/PE/C/PY-01-85, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards resides with the Bureau's Grants Officer.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 26, 2001.
Helena Kane Finn,
Acting Assistant Secretary for Educational and Cultural Affairs, Department of State.

[FR Doc. 01-16611 Filed 7-3-01; 8:45 am]

BILLING CODE 4710-05-P